DEPARTMENT OF COMMERCE

International Trade Administration

[A-533-824, A-583-837, C-533-825]

Polyethylene Terephthalate Film, Sheet, and Strip From India and Taiwan: Continuation of Antidumping and Countervailing Duty Orders

AGENCY: Enforcement and Compliance, International Trade Administration, Department of Commerce.

SUMMARY: As a result of the determinations by the Department of Commerce (Commerce) and the International Trade Commission (ITC) that revocation of the antidumping duty (AD) and countervailing duty (CVD) orders on polyethylene terephthalate film, sheet, and strip (PET film) from India and the AD order on PET film from Taiwan, would likely lead to a continuation or recurrence of dumping and countervailable subsidies, as well as material injury to an industry in the United States, Commerce is publishing a notice of continuation of these AD and CVD orders.

DATES: Applicable September 30, 2020.

FOR FURTHER INFORMATION CONTACT: Jacqueline Arrowsmith at (202) 482-5255 or Elfi Blum-Page at (202) 482-0197; AD/CVD Operations, Enforcement and Compliance, International Trade Administration, U.S. Department of Commerce, 1401 Constitution Avenue NW, Washington, DC 20230.

SUPPLEMENTARY INFORMATION:

Background

On July 2, 2002, Commerce published the AD Orders on PET film from India and Taiwan and the CVD Order on PET film from India.¹ On July 1, 2019, the ITC instituted,² and Commerce initiated, the third five-year (sunset) reviews of the Orders,³ pursuant to section 751(c) of the Tariff Act of 1930, as amended (the Act).

¹ See Notice of Amended Final Antidumping Duty Determination of Sales at Less Than Fair Value and Antidumping Duty Order: Polyethylene Terephthalate Film, Sheet, and Strip from India, 67 FR 44175 (July 1, 2002) (AD India Order); Notice of Amended Final Antidumping Duty Determination of Sales at Less Than Fair Value and Antidumping Duty Order: Polyethylene Terephthalate Film, Sheet, and Strip (PET Film) from Taiwan, 67 FR 44174 (July 1, 2002) (AD Taiwan Order); and Notice of Countervailing Duty Order: Polyethylene Terephthalate Film, Sheet, and Strip from India, 67 FR 44179 (July 1, 2002) (CVD India Order), (collectively, the Orders).

² See Polyethylene Terephthalate Film, Sheet, and Strip from India and Taiwan; Institution of Five-Year Reviews, 84 FR 31343 (July 1, 2019).

³ See Initiation of Five-Year (Sunset) Reviews, 84 FR 31304 (July 1, 2020).

As a result of its reviews, Commerce determined that revocation of the AD India Order, AD Taiwan Order, and CVD India Order would likely lead to a continuation or recurrence of dumping and countervailable subsidies and, therefore, notified the ITC of the magnitude of the margins and net countervailable subsidy rates likely to prevail should the Orders be revoked.⁴

⁴ See Polyethylene Terephthalate Film, Sheet and Strip from India and Taiwan: Final Results of the Expedited Third Sunset Reviews of the Antidumping Duty Orders, 84 FR 59355 (November 4, 2019); see also Polyethylene Terephthalate Film, Sheet and Strip from India: Final Results of the Expedited Sunset Review of the Countervailing Duty Order, 84 FR 59356 (November 4, 2019).

On September 22, 2020, the ITC published its determination, pursuant to section 751(c) and 752(a) of the Act, that revocation of the Orders would likely lead to a continuation or recurrence of material injury to an industry in the United States within a reasonably foreseeable time.⁵

⁵ See Polyethylene Terephthalate (PET) Film, Sheet, and Strip from India and Taiwan, 85 FR 59548 (September 22, 2020).

Scope of the Orders

The products covered by the Orders are all gauges of raw, pre-treated, or primed PET film, whether extruded or co-extruded. Excluded are metallized films and other finished films that have had at least one of their surfaces modified by the application of a performance-enhancing resinous or inorganic layer more than 0.00001 inches thick. Also excluded is roller transport cleaning film which has at least one of its surfaces modified by application of 0.5 micrometers of SBR latex. Tracing and drafting film is also excluded. PET film is classifiable under subheading 3920.62.00.90 of the Harmonized Tariff Schedule of the United States (HTSUS). While the HTSUS subheading is provided for convenience and customs purposes, our written description of the scope of the orders is dispositive.

Continuation of the Orders

As a result of the determinations by Commerce and the ITC that revocation of the Orders would likely lead to a continuation or recurrence of dumping and countervailable subsidies and material injury to an industry in the United States, pursuant to section 751(d)(2) of the Act, Commerce hereby orders the continuation of the AD India Order, AD Taiwan Order, and CVD India Order. U.S. Customs and Border Protection will continue to collect AD and CVD cash deposits at the rates in effect at the time of entry for all imports of subject merchandise. The effective date of the continuation of the Orders will be the date of publication in the Federal Register of this notice of continuation. Pursuant to section 751(c)(2) of the Act and 19 CFR 351.218(c)(2), Commerce intends to initiate the next five-year review of the Orders not later than 30 days prior to the fifth anniversary of the effective date of continuation.

Notification to Interested Parties

These five-year (sunset) reviews and this notice are in accordance with section 751(c) and 751(d)(2) of the Act and published pursuant to section 777(i)(1) of the Act and 19 CFR 351.218(f)(4).

Dated: September 24, 2020.
Joseph A. Laroski Jr.,
Deputy Assistant Secretary for Policy and Negotiations.

[FR Doc. 2020-21581 Filed 9-29-20; 8:45 am]

BILLING CODE 3510-DS-P